DEPARTMENT OF HOMELAND SECURITY

Federal Emergency Management Agency

[Docket ID FEMA-2025-0002; Internal Agency Docket No. FEMA-B-2523]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before August 18, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2523, to Rick Sacbibit, Chief, Engineering Services Branch, Risk Analysis, Planning & Information Directorate, FEMA, 400 C Street SW, Washington, DC 20472, (202) 646-7659, or (email) patrick.sacbibit@fema.dhs.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

Community | Community map repository address
Allen County, Kansas and Incorporated Areas
Project: 21-07-0019 Preliminary Date: December 11, 2024
City of Bassett | Bassett City Hall, 1821 South State Street, Iola, KS 66749.
City of Humboldt | City Hall, 725 Bridge Street, Humboldt, KS 66748.
City of Iola | City Hall, 2 West Jackson Avenue, Iola, KS 66749.
City of La Harpe | City Hall, 902 South Washington Avenue, La Harpe, KS 66751.
Unincorporated Areas of Allen County | Allen County Courthouse, 1 North Washington Avenue, Iola, KS 66749.
Cherokee County, Kansas and Incorporated Areas
Project: 21-07-0019S Preliminary Date: November 15, 2024 and March 21, 2025
City of Baxter Springs | City Hall, 1445 Military Avenue, Baxter Springs, KS 66713.
City of Columbus | City Hall, 300 East Maple Street, Columbus, KS 66725.
City of Galena | City Hall, 211 West 7th Street, Galena, KS 66739.
City of Roseland | Cherokee County Courthouse, 110 West Maple Street, Columbus, KS 66725.
City of Scammon | City Hall, 202 East 3rd Street, Scammon, KS 66773.
City of Weir | City Hall, 306 North Washington Street, Weir, KS 66781.
City of West Mineral | City Hall, 412 Richardson Avenue, West Mineral, KS 66782.
Unincorporated Areas of Cherokee County | Cherokee County Courthouse, 110 West Maple Street, Columbus, KS 66725.
Neosho County, Kansas and Incorporated Areas
Project: 21-07-0019S Preliminary Date: December 18, 2024
City of Chanute | City Offices, 101 South Lincoln Avenue, Chanute, KS 66720.
City of Earlton | Neosho County Courthouse, 100 South Main Street, Erie, KS 66733.
City of Erie | City Clerk, 101 North Main Street, Erie, KS 66733.
City of St. Paul | City Clerk, 703 Central Street, St. Paul, KS 66771.
City of Thayer | City Office, 103 Neosho Street, Thayer, KS 66776.
Unincorporated Areas of Neosho County | Neosho County Courthouse, 100 South Main Street, Erie, KS 66733.
Shannon County, Missouri and Incorporated Areas
Project: 19-07-0072S Preliminary Date: February 28, 2024 and December 10, 2024
City of Birch Tree | City Office, 9022 East 1st Street, Birch Tree, MO 65438.
City of Eminence | City Hall, 18446 Main Street, Eminence, MO 65466.
City of Winona | City Utilities, 8488 Ash Street, Winona, MO 65588.
Unincorporated Areas of Shannon County | Shannon County Courthouse, 18529 Main Street, Eminence, MO 65466.

[FR Doc. 2025-08984 Filed 5-19-25; 8:45 am]

BILLING CODE 9110-12-P